DEPARTMENT OF TRANSPORTATION

Maritime Administration

[Docket No. MARAD-2020-0133]

Notice of Consultation Pursuant to Section 106 of the National Historic Preservation Act; Decommissioning of the Nuclear Ship SAVANNAH

AGENCY: Maritime Administration, Department of Transportation.

ACTION: Notice and request for comments.

SUMMARY: The National Historic Preservation Act (NHPA) requires the Maritime Administration (MARAD) to develop a Programmatic Agreement (PA) to decommission the N.S. SAVANNAH's (NSS) nuclear power plant and subsequent license termination with the Nuclear Regulatory Commission (NRC). MARAD is considering the effect of this undertaking on the NSS as an historic property, and by this notice is seeking public comment.

DATES: Comments must be received on or before November 23, 2020. MARAD will consider comments filed after this date to the extent practicable.

ADDRESSES: You may submit comments identified by DOT Docket Number MARAD-2020-0133 by any one of the following methods:

• Federal eRulemaking Portal: Go to http://www.regulations.gov. Search MARAD-2020-0133 and follow the instructions for submitting comments.

• Email: Rulemakings.MARAD@dot.gov. Include MARAD-2020-0133 in the subject line of the message and provide your comments in the body of the email or as an attachment.

• Mail or Hand Delivery: Docket Management Facility is in the West Building, Ground Floor of the U.S. Department of Transportation. The Docket Management Facility location address is: U.S. Department of Transportation, MARAD-2020-0133, 1200 New Jersey Avenue SE, West Building, Room W12-140, Washington, DC 20590, between 9 a.m. and 5 p.m., Monday through Friday, except on Federal holidays.

Note: If you mail or hand-deliver your comments, we recommend that you include your name and a mailing address, an email address, or a telephone number in the body of your document so that we can contact you if we have questions regarding your submission.

Instructions: All submissions received must include the agency name and specific docket number. All comments received will be posted without change to the docket at www.regulations.gov, including any personal information provided. For detailed instructions on submitting comments, see the section entitled Public Participation.

Docket: For access to the online docket to read background documents or comments received, go to http://www.regulations.gov and search “MARAD-2020-0133.”

FOR FURTHER INFORMATION CONTACT: Erhard W. Koehler, (202) 680-2066 or via email at marad.history@dot.gov. Persons who use a telecommunications device for the deaf (TDD) may call the Federal Information Relay Service (FIRS) at 1-800-877-8339 to contact the above individual during business hours. The FIRS is available twenty-four hours a day, seven days a week, to leave a message or question. You will receive a reply during normal business hours. You may send mail to Department of Transportation, Maritime Administration, Office of Chief Counsel, Division of Legislation and Regulations, W24-220, 1200 New Jersey Avenue SE, Washington, DC 20590-0001.

SUPPLEMENTARY INFORMATION: Built in 1959, NSS was the world's first nuclear-powered merchant ship and served as a signature element of President Eisenhower's Atoms for Peace program. While in service, NSS demonstrated the peaceful use of atomic power as well as the feasibility of nuclear-powered merchant vessels. The vessel was retired from active service in 1970 and registered as a National Historic Landmark in 1991. NSS is currently part of MARAD's National Defense Reserve Fleet (NDRF) in retention status. Additional information regarding the vessel is available at https://www.maritime.dot.gov/nssavannah.

MARAD is decommissioning the NSS's nuclear power plant, a process that will remove the plant systems, equipment, and components for disposal, which will result in termination of MARAD's Nuclear Regulatory Commission (NRC) license and disposition of the vessel. MARAD has determined that this Undertaking will cause an adverse effect to the NSS, and is developing a PA with the Advisory Council on Historic Preservation (ACHP), the Maryland State Historic Preservation Officer (SHPO), and other consulting parties in compliance with the NHPA and its implementing regulations. MARAD has determined that a PA is a more effective and efficient means to implement consultation under Section 106 of the NHPA due to the Undertaking's complexity and unknown outcome. As part of the Section 106 and PA process, MARAD, ACHP, SHPO, and other consulting parties, are exploring and considering all NSS disposition options and alternatives that could avoid, minimize, or mitigate these impacts once the vessel's nuclear power plant is decommissioned and the NRC license is terminated.

Pursuant to 36 CFR part 800.2(d)(2), this serves as MARAD's notification concerning this Undertaking and its effects on the NSS and welcomes public input and comments.

Public Participation

How long do I have to submit comments?

We are providing a 45-day comment period.

How do I prepare and submit comments?

Your comments must be written in English.

To ensure that your comments are correctly filed in the Docket, please include the Docket Number shown at the beginning of this document in your comments.

If you are submitting comments electronically as a PDF (Adobe) File, MARAD asks that the documents be submitted using the Optical Character Recognition (OCR) process, thus allowing MARAD to search and copy certain portions of your submissions. Comments may be submitted to the docket electronically by logging onto the Docket Management System website at http://www.regulations.gov. Search using the MARAD docket number and follow the online instructions for submitting comments.

You may also submit two copies of your comments, including the attachments, to Docket Management at the address given above under ADDRESSES.

Please note that pursuant to the Data Quality Act, for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://www.bts.gov/programs/statistical_policy_and_research/data_quality_guidelines.

How can I be sure that my comments were received?

If you wish Docket Management to notify you upon its receipt of your comments, enclose a self-addressed, stamped postcard in the envelope containing your comments. Upon receiving your comments, Docket Management will return the postcard by mail.

How do I submit confidential business information?

Confidential business information (CBI) is commercial or financial information that is both customarily and actually treated as private by its owner. Under the Freedom of Information Act (FOIA) (5 U.S.C. 552), CBI is exempt from public disclosure. If your comments contain commercial or financial information that is customarily treated as private, that you actually treat as private, and that is relevant or responsive to this notice, it is important that you clearly designate the submitted comments as CBI. Please mark each page of your submission that constitutes CBI as “PROPIN” to indicate it contains proprietary information. MARAD will treat such marked submissions as confidential under the FOIA, and they will not be placed in the public docket of this interim final rule. Submissions containing CBI should be sent to the email address provided in the FOR FURTHER INFORMATION CONTACT section. In addition, you should submit two copies, from which you have deleted the claimed confidential business information, to Docket Management at the address given above under ADDRESSES. Any comments MARAD receives which are not specifically designated as CBI will be placed in the public docket for this rulemaking.

Will the agency consider late comments?

We will consider all comments that Docket Management receives before the close of business on the comment closing date indicated above under DATES. To the extent possible, we will also consider comments that Docket Management receives after that date.

How can I read the comments submitted by other people?

You may read the comments received by Docket Management at the address given above under ADDRESSES. The hours of the Docket are indicated above in the same location. You may also see the comments on the internet. To read the comments on the internet, go to http://www.regulations.gov. Follow the online instructions for accessing the dockets. Please note that, even after the comment closing date, we will continue to file relevant information in the Docket as it becomes available. Further, some people may submit late comments. Accordingly, we recommend that you periodically check the Docket for new material.

Privacy Act

Anyone can search the electronic form of all comments received into any of our dockets by the name of the individual submitting the comment (or signing the comment, if submitted on behalf of an association, business, labor union, etc.). You may review DOT's complete Privacy Act Statement in the Federal Register published on April 11, 2000 (65 FR 19477-78), or you may visit http://dms.dot.gov.

(Authority: 49 CFR Sections 1.92 and 1.93)

* * * * *

Dated: October 6, 2020.
By Order of the Maritime Administrator.
T. Mitchell Hudson, Jr.,
Secretary, Maritime Administration.

[FR Doc. 2020-22416 Filed 10-8-20; 8:45 am]

BILLING CODE 4910-81-P